DEPARTMENT OF HOMELAND SECURITY

Federal Emergency Management Agency

Agency Information Collection Activities: Proposed Collection; Comment Request

AGENCY: Federal Emergency Management Agency, Emergency Preparedness and Response Directorate, Homeland Security.

ACTION: Notice and request for comments.

SUMMARY: The Federal Emergency Management Agency, as part of its continuing effort to reduce paperwork and respondent burden, invites the general public and other Federal agencies to take this opportunity to comment on proposed new information collections. In accordance with the Paperwork Reduction Act of 1995 (44 U.S.C. 3506(c)(2)(A)), this notice seeks comments concerning the application process for Citizen Corps affiliate programs and organizations.

SUPPLEMENTARY INFORMATION: Citizen Corps, an initiative launched by President George W. Bush in January 2002, has a mission to harness the power of every individual through education, training, and volunteer service to make communities safer, stronger, and better prepared for the threats of terrorism, crime, public health issues, and disasters of all kinds. In order to fulfill its mission, Citizen Corps seeks to establish a network of state, local, and tribal councils that will coordinate activities at these levels. The Citizen Corps Council registration form will allow Citizen Corps personnel to ensure that proposed Councils have the support of the appropriate government officials in their area and will have a dedicated member assigned to the coordination of Council activities.

Collection of Information

Title: Citizen Corps Council Registration.

Type of Information Collection: New Collection.

OMB Number: 1660-New.

Abstract: Citizen Corps requests information from state, local, and tribal based groups that would like to support the Citizen Corps program through becoming recognized Citizen Corps Councils. The requested information will ensure that Citizen Corps Councils are sponsored by the appropriate governmental officer and are capable of supporting its mission.

Affected Public: State, Local, and Tribal Governments; Not-For-Profit Institutions.

Number of Respondents: 1,000.

Frequency of Response: One-Time.

Hour Burden Per Response: 10 minutes.

Estimated Total Annual Burden Hours: 167 hours.

Comments

Written comments are solicited to (a) Evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, Branch Chief, Records Management Branch, Information Resources Management Division, Information Technology Services Directorate, Federal Emergency Management Agency, Emergency Preparedness and Response Directorate, Department of Homeland Security, 500 C Street, SW., Room 316, Washington, DC 20472.

FOR FURTHER INFORMATION CONTACT: Contact Suzann Gallagher, Program Specialist, Federal Emergency Management Agency, Emergency Preparedness and Response Directorate, at (202) 646-3737 for additional information. You may contact Ms. Anderson for copies of the proposed collection of information at email address: InformationCollections@fema.gov.

Dated: March 26, 2003.
Vernon Adler,
Acting Division Director, Information Resources Management Division, Information Technology Services Directorate.

[FR Doc. 03-7793 Filed 4-1-03; 8:45 am]

BILLING CODE 6718-01-P